DEPARTMENT OF TRANSPORTATION

Federal Highway Administration

National Safe Routes to School Task Force to the Secretary of Transportation

AGENCY: Federal Highway Administration (FHWA), DOT.

ACTION: Notice of meeting of advisory committee.

SUMMARY: This document announces a meeting of the National Safe Routes to School Task Force to the Secretary of Transportation. This is the fifth meeting of the Task Force. The purpose of the Task Force is to advise the Secretary of Transportation, through the Federal Highway Administration (FHWA) Office of Safety, on strategies to advance Safe Routes to School (SRTS) Programs nationwide and to encourage children, including those with disabilities, to walk and bicycle to school pursuant to section 1404(h) of the Safe, Accountable, Flexible, Efficient Transportation Equity Act: A Legacy for Users (SAFETEA-LU) (Pub. L. 109-59, Aug. 10, 2005). The meeting is open to the public and will have time allocated for public testimony. The public is welcome to present written or oral comments to the Task Force.

DATES: The fifth meeting of the Task Force is scheduled for 8:30 a.m. to 5 p.m., m.t., on January 23, 2008, and for 8:30 a.m. to 12:30 p.m., m.t., on January 24, 2008.

ADDRESSES: The fifth meeting will be held at the Wyndham Phoenix Hotel, 50 East Adams Street, Phoenix, AZ 85004.

FOR FURTHER INFORMATION CONTACT: Mr. Tim Arnade, the Designated Federal Official, Safe Routes to School Program Manager, FHWA Office of Safety Programs, (202) 366-2205, Tim.Arnade@dot.gov; Federal Highway Administration, 1200 New Jersey Ave., SE., Washington, DC 20590.

SUPPLEMENTARY INFORMATION:

Background

Section 1404 of SAFETEA-LU required the Secretary of Transportation to establish a Safe Routes to School (SRTS) Program. The purpose of the program is to enable and encourage children, including those with disabilities, to walk and bicycle to school and to make bicycling and walking to school a safer and more appealing transportation alternative. Section 1404(h) requires the establishment of a National SRTS Task Force. This meeting is the fifth meeting of the Task Force. The first two meetings were held in Washington, DC; the first was held on January 11, 2007, and the second was held on April 19, 2007. The third meeting was held in Denver, CO, on September 25-26, 2007. The fourth meeting was held in Washington, DC, on November 15-16, 2007. Complete meeting minutes from the previous meetings are posted on the Web site listed below.

The agenda for the fifth meeting will include discussion of a draft report to the Secretary of Transportation about national strategies to advance SRTS programs nationwide.

Public comments will be taken at approximately 2:45 p.m., m.t., on January 23, 2008. Further information about the Task Force can be found at http://www.saferoutesinfo.org/task_force/.

Once a detailed agenda is developed, it will be posted on this Web site. Please note that agenda items are subject to change as priorities dictate.

Conclusion

The fifth meeting of the National Safe Routes to School Task Force will be held at the Wyndham Phoenix Hotel, 50 East Adams Street, Phoenix, AZ 85004, from 8:30 a.m. to 5 p.m., m.t., on January 23, 2008, and from 8:30 a.m. until 12:30 p.m., m.t., on January 24, 2008.

Authority: Section 1404(h), Pub. L. 109-59; 5 U.S.C., App. II section 1.

Issued on: December 7, 2007.
J. Richard Capka,
Federal Highway Administrator.

[FR Doc. E7-24578 Filed 12-18-07; 8:45 am]

BILLING CODE 4910-22-P